DEPARTMENT OF DEFENSE

Office of the Secretary

Defense Science Board

AGENCY: Department of Defense.

ACTION: Notice of Advisory Committee Meetings.

SUMMARY: The Defense Science Board Task Force on Biometrics will meet in closed session on September 28-29, 2006, at Science Applications International Corporation (SAIC), 4001 N. Fairfax Drive, Arlington, VA. This meeting will define the role of biometrics technologies and capabilities within DoD's Space. It will also recommend best organizational fit within DoD to implement the biometric and identify dominance missions. The briefings will contain proprietary material from the private business sector.

The mission of the Defense Science Board is to advise the Secretary of Defense and the Under Secretary of Defense for Acquisition, Technology & Logistics on scientific and technical matters as they affect the perceived needs of the Department of Defense. At this meeting, the Defense Science Board Task Force will: Identify the biometric mission space metrics across the major applications (e.g. physical and logical access, intelligence, data sharing, Homeland Defense, force protection/counter terrorism, privacy protection, administrative and business practices-pay, human resource, medical, digital signature, etc.). Additionally the task force will develop a methodology to address needed taxonomy and policy development activities within the Department of Defense and identify the activities required for effective operational support and organizations structure to support these activities.

In accordance with Section 10(d) of the Federal Advisory Committee Act, Pub. L. No. 92-463, as amended (5 U.S.C. App. II), it has been determined that these Defense Science Board Task Force meetings concern matters listed in 5 U.S.C. 552b(c)(4) and that, accordingly, the meetings will be closed to the public.

FOR FURTHER INFORMATION CONTACT: Maj, Chad Lominac, USAF, Defense Science Board, 3140 Defense Pentagon, Room 3C553, Washington, DC 20301-3140, via e-mail at charles.lominac@osd.mil, or via phone at (703) 571-0081.

Due to scheduling and work burden difficulties, there is insufficient time to provide timely notice required by Section 10(a) of the Federal Advisory Committee Act and Subsection 102-3.150(b) of the GSA Final Rule on Federal Advisory Committee Management, 41 CFR Part 102-3.150(b), which further requires publication at least 15 calendar days prior to the meeting.

Dated: September 25, 2006.
C.R. Choate,
Alternate OSD Federal Register Liaison Officer, Department of Defense.

[FR Doc. 06-8361 Filed 9-28-06; 8:45 am]

BILLING CODE 5001-06-M